DEPARTMENT OF LABOR

Employment and Training Administration

Agency Information Collection Activities; Comment Request; Registration and Equal Employment Opportunity in Apprenticeship Programs

ACTION: Notice.

SUMMARY: The Department of Labor's (DOL) Employment and Training Administration (ETA) is soliciting comments concerning a proposed revision for the authority to conduct the information collection request (ICR) titled, “Registration and Equal Employment Opportunity in Apprenticeship Programs.” This comment request is part of continuing Departmental efforts to reduce paperwork and respondent burden in accordance with the Paperwork Reduction Act of 1995 (PRA).

DATES: Consideration will be given to all written comments received by March 15, 2021.

ADDRESSES: A copy of this ICR with applicable supporting documentation, including a description of the likely respondents, proposed frequency of response, and estimated total burden, may be obtained free by contacting Stephanie Arku by telephone at 202-693-3965 (this is not a toll-free number), TTY 1-877-889-5627 (this is not a toll-free number), or by email at OA-ICRs@dol.gov.

Submit written comments about, or requests for a copy of, this ICR by mail or courier to the U.S. Department of Labor, Employment and Training Administration, Office of Apprenticeship, Room C-5321, 200 Constitution Avenue NW, Washington, DC 20210; by email: OA-ICRs@dol.gov; or by fax 202-693-3799.

FOR FURTHER INFORMATION CONTACT: Stephanie Arku by telephone at 202-693-3965 (this is not a toll-free number) or by email at OA-ICRs@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

ETA is requesting approval of a revision to a currently approved ICR pursuant to the Paperwork Reduction Act. The National Apprenticeship Act (NAA) of 1937 (29 U.S.C. 50) authorizes this information collection. If approved, this ICR will enable ETA to refine its data collection concerning the registration of apprenticeship programs and apprentices with DOL/ETA's Office of Apprenticeship and recognized State Apprenticeship Agencies, properly assess the types of sponsors that are seeking to register an apprenticeship program and the level of growth in apprenticeship, collect the data necessary to calculate national registered apprenticeship program and apprentice totals, and implement the requirements of the Veterans Apprenticeship and Labor Opportunity Reform (VALOR) Act (Pub. L. 115-89). This ICR will also continue to enable ETA to collect data from registered apprenticeship programs relating to equal employment opportunity, and from applicants and/or apprentices, who file a discrimination complaint. Under the NAA, the Secretary of Labor (Secretary) is charged with the establishment of labor standards designed to safeguard the welfare of apprentices and promote apprenticeship opportunity. The NAA also authorizes the Secretary to “publish information relating to existing and proposed labor standards of apprenticeship.”

ETA seeks a revision of this ICR to include the following: a change to the ICR title from “Title 29 CFR Part 29—Labor Standards for the Registration of Apprenticeship Programs” to the “Registration and Equal Employment Opportunity in Apprenticeship Programs” to accurately reflect the collection of information contained in this revised ICR; modifications to ETA Form 671 (Program Registration and Apprenticeship Agreement); the addition (with minor modifications) of the information collection requirements currently approved under OMB Control Number 1205-0224 (titled “Equal Employment Opportunity in Apprenticeship Training”), including ETA Form 9039 (Complaint Form—Equal Employment Opportunity in Apprenticeship Programs); and the addition of an information collection instrument pertaining to state program and apprentice registration (ETA Form 9186). ETA Forms 671 and 9039 are currently set to expire on March 31, 2023.

Overall adjustments to ETA Form 671 (Program Registration and Apprenticeship Agreement) include nonsubstantive textual and formatting edits to enhance clarity, technical corrections to reflect that 29 CFR part 29, subpart A, now governs the operation of registered apprenticeship programs, and the streamlining of fields that are no longer relevant or in use. The notable changes specific to ETA Form 671, Section I (Program Registration) include the addition of a subsection where a sponsor must attest to the assurances required under section 2(b)(1) of the Support for Veterans in Effective Apprenticeships Act of 2019 (Pub. L. 116-134) with respect to Title 38 educational assistance; the addition of a field where a sponsor must disclose the principal place of business (i.e., the location of the sponsor's headquarters) in connection with section 2(b)(3) of Public Law 116-134 and section 2(c)(1) of Public Law 115-89; the addition of a field where a sponsor must indicate its willingness to be placed on the Eligible Training Provider List with respect to section 122 of the Workforce Innovation and Opportunity Act (Pub. L. 113-128); and the addition of multiple fields (e.g., ratio of apprentices to journeyworkers, on-the-job learning/training plan, and minimum program requirements) and a subsection (i.e., selection procedures) where a sponsor must disclose critical information that will inform the content of its apprenticeship program standards.

In ETA Form 671, Section II (Apprentice Agreement and Registration), ETA has modified the veteran status category in connection with Public Law 116-134 to enable registered apprenticeship programs to better service veterans; updated the sex, ethnicity, race, and veteran status categories to include an additional field for apprentices who elect not to disclose this information; slightly adjusted the education level category to align with the educational attainment categories for which the U.S. Government compiles workforce data by race, national origin, and sex; and aligned the overall content in the apprenticeship agreement with the various regulatory requirements specified in DOL's apprenticeship regulations under 29 CFR 29.7. ETA has not made any adjustments to ETA Form 671, Section II (Voluntary Disability Disclosure).

ETA has added the information collection requirements that are currently approved under OMB Control Number 1205-0224 to this ICR in an effort to consolidate all information collection requirements pertaining to the registration of apprenticeship programs and apprentices into a single ICR. The adjustments to ETA Form 9039 (Complaint Form—Equal Employment Opportunity in Apprenticeship Programs) include minor, nonsubstantive textual edits, and technical corrections indicating that the regulatory requirements governing registered apprenticeship programs are now contained in 29 CFR part 29, subpart A. ETA will submit a request to discontinue the ICR approved under OMB Control Number 1205-0224 once approval is granted by OMB on this ICR.

ETA has also added a new information collection instrument, ETA Form 9186 (State Apprenticeship Agency (SAA) Self-Assessment Report for Program Data and Apprentice Demographics), to this ICR. If approved, this form will be completed by the SAAs that currently do not use DOL/ETA's Registered Apprenticeship Partners Information Database System (RAPIDS) to administer Registered Apprenticeship in their respective state/territory. This collection will enable ETA to calculate more precisely the total number of registered apprenticeship programs and apprentices on a nationwide basis.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0223.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: REVISION.

Title of Collection: Registration and Equal Employment Opportunity in Apprenticeship Programs.

Forms: ETA Form 671, ETA Form 9039, and ETA Form 9186.

OMB Control Number: 1205-0223.

Affected Public: Individuals/households, state/local/tribal governments, Federal government, private sector (businesses or other for-profits, and, not-for-profit institutions).

Estimated Number of Respondents: 651,093.

Frequency: Varies.

Total Estimated Annual Responses: 957,452.

Estimated Average Time per Response: Varies.

Estimated Total Annual Burden Hours: 521,964 hours.

Total Estimated Annual Other Cost Burden: $0.

John Pallasch,
Assistant Secretary for Employment and Training.

[FR Doc. 2021-00503 Filed 1-12-21; 8:45 am]

BILLING CODE 4510-FR-P